DEPARTMENT OF HOMELAND SECURITY

Coast Guard

[Docket No. USCG-2008-0208]

Commercial Fishing Industry Vessel Safety Advisory Committee; Meeting

AGENCY: Coast Guard, DHS.

ACTION: Notice of meeting.

SUMMARY: The Commercial Fishing Industry Vessel Safety Advisory Committee (CFIVSAC) will meet in New Orleans, LA, to discuss various issues relating to commercial vessel safety in the fishing industry. This meeting will be open to the public.

DATES: CFIVSAC will meet on May 28-30, 2008, from 8 a.m. to 5 p.m. This meeting may close early if all business is finished. Written material and requests to make oral presentations should reach the Coast Guard on or before May 14, 2008. Requests to have a copy of your material distributed to each member of the committee should reach the Coast Guard on or before May 14, 2008.

ADDRESSES: CFIVSAC will meet at the Wyndham Riverfront Hotel: 701 Convention Center Boulevard, New Orleans, LA 70130. Send written material and requests to make oral presentations to Captain Michael Karr, Designated Federal Officer (DFO) of CFIVSAC, United States Coast Guard Fishing Vessel Safety Division, 2100 2nd St., SW., Washington, DC 20593. This notice and documents identified in the Supplementary Information section as being available in the docket may be viewed in our online docket, USCG-2008-0208, at http://www.regulations.gov.

FOR FURTHER INFORMATION CONTACT: Lieutenant Commander Kenneth Vazquez, Assistant to the Designated Federal Officer of CFIVSAC, by telephone at 202-372-1247, fax 202-372-1819, e-mail: Kenneth.Vazquez@uscg.mil.

SUPPLEMENTARY INFORMATION: Notice of this meeting is given under the Federal Advisory Committee Act, 5 U.S.C. App. (Pub. L. 92-463).

Agenda of Meeting

The agenda for the CFIVSAC meeting is as follows:

(1) Commercial Fishing Vessel Safety District Coordinators updates.

(2) Industry Update

(3) Status report on the Commercial Fishing Vessel Safety Rulemaking.

(4) Legislation update: The House and Senate fishing vessel safety related proposals discussed in their versions of the Coast Guard authorization bills; Pending final bills outcomes.

(5) Discussions and working group sessions by the Communications and Risk Management Subcommittees on current program strategies, future plans, and long range goals for CFIVSAC.

Procedural

This meeting is open to the public. Please note the meetings may close early if all business is finished. At the Chair's discretion, members of the public may make presentations during the meeting. If you would like to make an oral presentation at the meeting, please notify the Designated Federal Officer no later than May 14, 2008. Written material for distribution at a meeting should reach the Coast Guard no later than May 14, 2008. If you would like a copy of your material distributed to each member of the committee in advance of the meeting, please submit 25 copies to the Executive Director no later than May 14, 2008.

Information on Services for Individuals With Disabilities

For information on facilities or services for individuals with disabilities or to request special assistance at the meeting, contact the Designated Federal Officer as soon as possible but no later than May 14, 2008.

Dated: March 25, 2008.
J.G. Lantz,
Director of Commercial Vessel Regulations and Standards, Assistant Commandant for Marine Safety, Security, and Stewardship.

[FR Doc. E8-6624 Filed 3-31-08; 8:45 am]

BILLING CODE 4910-15-P